DEPARTMENT OF COMMERCE

National Oceanic and Atmospheric Administration

RIN 0648-XF380

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit would exempt a commercial fishing vessel from Atlantic sea scallop regulations in support of research conducted by the Coonamessett Farm Foundation. Regulations under the Magnuson-Stevens Fishery Conservation and Management Act require publication of this notification to provide interested parties the opportunity to comment on applications for proposed Exempted Fishing Permits.

DATES: Comments must be received on or before June 8, 2017.

ADDRESSES: You may submit written comments by any of the following methods:

• Email: nmfs.gar.efp@noaa.gov. Include in the subject line “DA17-042 CFF Resource Enhancement Study EFP.”

• Mail: John K. Bullard, Regional Administrator, NMFS, Greater Atlantic Regional Fisheries Office, 55 Great Republic Drive, Gloucester, MA 01930. Mark the outside of the envelope “Comments on DA17-042 CFF Resource Enhancement Study EFP.”

FOR FURTHER INFORMATION CONTACT: Shannah Jaburek, Fisheries Management Specialist, 978-282-8456.

SUPPLEMENTARY INFORMATION: CFF submitted an application for an EFP on April 17, 2017, to complete work on a 2016 scallop RSA seeding and enhancement project on Georges Bank titled “Drivers of Dispersal and Retention in Recently Seeded Sea Scallops.” The project has been delayed due to personnel changes and changes in the original approach of the project from using an autonomous underwater vehicle (AUV) to instead deploying underwater cameras on stands. Previously, the project focused on transporting, seeding, and monitoring aspects of a seeding program with longer-term monitoring, along with investigating short-term retention of seeded scallops, with an emphasis on the drivers of dispersal and their effects on the different size classes of scallops. The goal of the project is to demonstrate the feasibility of a seeding program to enhance and stabilize scallop recruitment on Georges Bank while documenting the factors that affect seed survival.

To conduct this experiment, vessels would require exemptions from the following regulations: Atlantic sea scallop crew size restrictions at 50 CFR 648.51(c); Atlantic sea scallop observer program requirements at § 648.11(g); and closed area exemptions for Closed Area I at § 648.60(c) and Nantucket Lightship at § 648.60(f). It would also exempt participating vessels from the access area program requirements at § 648.59(a)(4), which would allow them to transit in and out of the access areas from the open area, as well as from the 50 bushel (17.6 hl) in-shell scallop possession limit outside of an access area found at § 648.52(f). Finally, the EFP would exempt vessels from possession limits and minimum fish size requirements specified in 50 CFR part 648, subsections B and D through O, for biological sampling purposes and to retain any yellowtail flounder showing signs of disease for further shore side analysis.

The project would transplant scallops from areas of high concentration to areas of lower concentration that were historically known to have high scallop densities, to demonstrate the feasibility of a reseeding program to enhance and stabilize scallop recruitment on Georges Bank. One dredging trip would collect and transplant roughly 1,000 scallops utilizing a single vessel, June through July 2017. The juvenile scallops would be harvested from the southeast portion of Nantucket Lightship Access Area (NLAA) to suitable sites in an alternate area of NLAA. The projects define a suitable site as having currents less than 3 knots (~1 m/s) and large areas of coarse substrate preferred by scallops. An alternate site in Closed Area I Access Area may be chosen if needed.

The vessel would tow two standard 15-foot (4.57-m) wide dredges with a 4-inch (10.16-cm) ring bag for up to 10 minutes at 4.5 knots (2.3 m/s). To harvest all of the scallops for transplant, the applicant estimates they would need to complete no more than 10 tows. Once the catch is on deck, the scallops would be sorted by size class, marked with reflective tape to enhance images in the photographs, and stored in fish totes with a chilled seawater flow through system. When the vessel arrives at the transplant site the scallops would then be placed into a box that would be attached to a large steel camera stand with an image coverage of approximately 3 square meters. The camera stand would then be deployed overboard, lowered to the ocean floor, and the scallops released. The cameras are equipped with batteries that would allow for 48 hours of continuous coverage. After 48 hours, the camera stands would be collected, refilled with scallops, and redeployed. Researchers will deploy two camera stands in this manner as many times as needed to release 1,000 scallops. If researchers are unable to release all 1,000 scallops according to the project protocols, any remaining scallops will be released adjacent to the camera sites. Researchers conclude that tag returns over time from the fishery could potentially provide information for the project.

One bushel from each tow would be measured for size frequency and 15 individual scallops would be sampled for meat weights to determine shell height/meat weight ratios prior to transplanting. Any finfish caught in the dredge that show signs of abnormalities would be retained and brought back to shore for analysis. Researchers would like to continue gathering information on the prevalence of the disease Ichthyophonus seen locally in yellowtail flounder. Anticipated catch for the project is listed in the Table 1 below.

Table 1—Anticipated Catch for the Project
Species | Min (lb) | Min (kg) | Max (lb) | Max (kg)
Scallop | 1,000 | 453.6 | 5,000 | 2,268.0
Yellowtail Flounder | 5 | 2.2 | 40 | 18.1
Winter Flounder | 5 | 2.2 | 50 | 22.7
Windowpane Flounder | 30 | 13.6 | 150 | 68.0
Monkfish | 150 | 68.0 | 800 | 362.9
Other Fish | 220 | 99.8 | 500 | 226.8
Barndoor Skate | 10 | 4.5 | 100 | 45.4
Northeast Skate Complex | 1,400 | 635.0 | 5,000 | 2,268.0

Exemptions are needed to deploy dredge gear in closed access areas and retain yellowtail flounder for scientific purposes. Participating vessels need crew size waivers to accommodate science personnel and possession waivers would enable them to conduct data collection activities. We would waive the observer program notification requirements because the research activity is not representative of standard fishing activity.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 19, 2017.
Margo B. Schulze-Haugen,
Acting Deputy Director, Office of Sustainable Fisheries, National Marine Fisheries Service.

[FR Doc. 2017-10658 Filed 5-23-17; 8:45 am]

BILLING CODE 3510-22-P